DEPARTMENT OF HEALTH AND HUMAN SERVICES

Health Resources and Services Administration

Advisory Council; Notice of Meeting

In accordance with section 10(a)(2) of the Federal Advisory Committee Act (Public Law 92-463), announcement is made of the following National Advisory body scheduled to meet during the month of April 2000.

NAME: National Advisory Council on Nurse Education and Practice (NACNEP).

DATE AND TIME: April 6, 2000; 8:30 a.m.-5 p.m.; April 7, 2000; 8:30 a.m.-3 p.m.

PLACE: Doubletree Hotel Rockville, 1750 Rockville Pike, Rockville, Maryland 20852.

The meeting is open to the public.

Agenda: Updates on and discussion of Department, Agency, Bureau, and Division activities, and the legislative and budget status of programs; report of COGME/NACNEP joint planning workgroup; discussion of final draft of the National Agenda for Nursing Workforce Diversity report; update on funding allocation methodology; MedPAC; report on medical errors; and Council strategic planning workgroups on Workforce and Practice.

Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-5786.

Dated: March 3, 2000.
Jane M. Harrison,
Director, Division of Policy Review and Coordination.

[FR Doc. 00-5837 Filed 3-9-00; 8:45 am]

BILLING CODE 4160-15-P